DEPARTMENT OF HEALTH AND HUMAN SERVICES

Agency for Healthcare Research and Quality

Request for Planning Ideas

AGENCY: Agency for Healthcare Research and Quality, HHS

ACTION: Notice.

SUMMARY: The Agency for Healthcare Research and Quality (AHRQ) invites recommendations for future initiatives in areas identified as priorities in the Agency's current strategic plan which can be viewed at http://www.AHRQ.gov/about/stratpln.htm. This plan describes the framework that the Agency will use to guide the development and implementation of budget proposals for Fiscal Years 2004 and 2005 as well as decisions on resource allocations for research, translation (including tool development), dissemination, and evaluation activities that will facilitate the implementation of research findings at all levels of the health care system.

Nature of Recommendations

AHRQ encourages written suggestions from users of AHRQ research information and stakeholders for future Agency activities. Submissions should provide the following:

• A description of the focus of the activity and its alignment with Agency priorities;

• The gap addressed by the proposal;

• The population addressed by the activity;

• An indication of the health care issues that are of most concern for the proponent (of the activity);

• Background information to help AHRQ assess the urgency of the need for the results of the proposed projects (i.e., realizing that projects undertaken by the Agency will take a year [minimally] to begin, what is the magnitude of the problem addressed, how soon could the results be implemented, and what change would be anticipated);

• An estimate of the budget required to adequately address the proposed activity;

• Potential partners for the Agency; and

• A description of the desired end product(s) (research knowledge; information; tools such as instruments for measurements, databases, informatics, and other applications that can be used to assess and improve care; or systems intervention) and how the product could be used in the health care system.

One of the criteria that will be used in prioritizing suggestions submitted will be the extend to which customers and stakeholders can point to examples of how prior results of the Agency's work have been used to improve health care as well as the impact of this use on quality, outcomes, costs, use or access.

DATES: The responses to this request will be accepted on an ongoing basis.

ADDRESSES: Submissions should be brief (no more than three pages) and may be in the form of a letter, preferably with an electronic file in a standard word processing format on a 3½ floppy disk, or via e-mail. Responses to this request should be submitted to: Kathie Kendrick, Planning Officer, Agency for Healthcare Research and Quality, 2101 E. Jefferson Street, Suite 600, Rockville, Maryland 20852, kkendrick@AHRQ.gov.

In order to facilitate the handling of submissions, please include full information about the person submitting the recommendation: (a) Name, (b) title, (c) organization, (d) mailing address, (e) telephone number, and (f) e-mail address. Please do not use acronyms. Electronic submissions are also encouraged to kkendrick@AHRQ.gov.

All responses will be available for public inspection at AHRQ's Immediate Office of the Director, weekdays between 8:30 a.m. and 5 p.m. AHRQ will not respond to individual responses, but will consider all nominations in selecting topics. Arrangements for reviewing the submissions may be made by calling (301) 594-7196. Responses may also be accessed two weeks after receipt by the Agency through AHRQ's Electronic FOIA Reading Room also on AHRQ's web site.

AHRQ routinely publishes new research interests, policies, and initiatives in the Federal Register (see GPO Access web site http://www.access.gpo.gov/su docs/aces/aces140.html) and the NIH Guide for Grants and Contracts (see Funding Opportunities through AHRQ's web site http://www.AHRQ.gov). The budget priorities for each fiscal year published in the President's budget for the Department of Health and Human Services. Following is the web site: http://www.hhs.gov/progorg/asmb/budget/fy2000.html.

FOR FURTHER INFORMATION CONTACT: Additional information about AHRQ can be accessed on the AHRQ web site (www.ahrq.gov). The AHRQ strategic plan is available at http://www.AHRQ.gov/about/stratpln.htm. Information about topic nomination can be obtained by contacting: Kathie Kendrick, Planning Officer, Immediate Officer of the Director, 2101 E. Jefferson St., Suite 600, Rockville, Maryland 20852; telephone (301) 594-7196; E-mail address: kkendrick@AHRQ.gov.

SUPPLEMENTARY INFORMATION:

Background

The mission of AHRQ is to support, conduct, and disseminate research that improves access to care as well as the outcomes, quality, cost, and utilization of health care services. The Agency sponsors and conducts health care research that helps the American health care system, which includes patients, providers, plans, purchasers and policymakers, provide access to high quality, cost-effective services; be accountable and responsive to consumers and purchasers; and improve health status and quality of life.

Wide variations in practice patterns, quality, and outcomes continue, and a gap persists between what we know and the care that we deliver. It is clear today that AHRQ now has knowledge of what can be improved and can commit to a significant investment in promoting the adoption and use of research findings. This commitment also focuses on being able to demonstrate that the potential benefits demonstrated by the research are actually achieved in daily practice. This must be done while continuing to support new research on priority health issues and the development of new tools, so that in the future this knowledge and the new tools based on research findings can be translated and implemented to produce improved health care.

AHRQ Strategic Goals

The Agency has identified three strategic goals, each of which will contribute to improving the quality of health for all Americans.

1. Support Improvements in Health Outcomes

The field of health outcomes research studies the end results of the structure and processes of health care on the health and well-being of patients and populations. (Institute of Medicine, 1996) A unique characteristic of this research is the incorporation of the consumer's or patient's perspective in the assessment of effectiveness. Policymakers in the public and private sectors are also concerned with the end results of their investments in health care, whether at the individual, community, or population level.

AHRQ has a particular interest in outcomes research related to conditions that are common, expensive, and/or for which significant variations in practice or opportunities for improvement have been demonstrated. Also important is research linking types of delivery systems or processes by which care is provided with their effects on outcomes as well as research on clinical preventive services that may prevent premature death and disability in the United States.

2. Strengthen Quality Measurement and Improvement

At its most basic level, high quality health care is doing the right thing, at the right time, in the right way, for the right person. The challenge that clinicians and health system managers face every day is knowing what the right thing is, when the right time is, and what the right way is. Patients and their families are also confronted with making choices about treatments and care settings with little information on the relative quality, risks, and benefits of the options available to them. Policy makers, at all levels, also need quality information to support their deliberations. AHRQ has developed and tested measures of quality and studied the best ways to collect, compare, and communicate these data. The Agency will also focus on research that determines the most effective way to improve health care quality. This includes how to promote the use of information on quality through a variety of strategies such as determining effective ways to disseminate the information and illustrating the impact that the use of quality information can have on the provision and financing of health care.

3. Identify Strategies To Improve Access, Foster Appropriate Use, and Reduce Unnecessary Expenditures

Adequate access to health care services continues to be a challenge for many Americans. This is particularly so for the poor, the uninsured, members of minority groups, rural residents, and other vulnerable populations. In addition, the changing organization and financing of care has raised new questions about access to a range of health services, including emergency and specialty care. At the same time, examples of inappropriate use of care, including overutilization and misuse of services, continue to be documented. The increasing portion of our Nation's resources devoted to health care expenditures remains a concern. The continued growth in public spending for Medicare and Medicaid, in particular, raises important questions about the care delivered to the elderly, poor, children, and people with disabilities. Together, these factors require concerted attention to the determinants of access, use, and expenditures as well as effective strategies to improve access, contain costs, and assure appropriate and timely use of effective services.

Priority Populations

In addition to the strategic research goals, certain population groups warrant a special focus from AHRQ and the health services research community: Racial and ethnic minorities, women, children, the elderly, low-income populations, people living in rural areas, and people living with chronic illnesses and/or disabilities. These are all groups for whom public policy struggles to find effective solutions to improve health care. Health services research has consistently documents the persistent, and at times great, disparities in health status and access to appropriate health care services for certain groups, notably racial and ethnic minorities and low income families and children. Gender-based differences in access, quality, and outcomes are also widespread, but whether these differences should be eliminated or are appropriate is not well understood. Despite the dramatic changes occurring in the organization and financing of children's health services, the knowledge base for guiding these changes or assessing their impact is less well developed than that for adults. Health care issues that exist for the elderly and for people with chronic illnesses and disabilities also require attention. Health services research should do a better job of bringing science-based information to bear on these disparities so that the health of these groups is enhanced.

Career Development

AHRQ invests in the training and career development of health services researchers to address the research, analytic and improvement needs of the changing health care system. Areas of focus include: (1) Training that is designed to reflect and incorporate evolving innovations in data systems and research tools so that the researchers of the future not only identify and address significant research questions, but also employ cutting edge methodological, analytic, and data handing techniques, including appropriate privacy and confidentiality safeguards; (2) carrier development that allows new investigators to obtain additional, concentrated research experience to facilities the transition from a trainee or fellow status to that of an independent investigator with an established area of research expertise and demonstrated productivity; (3) training that provides a solid foundation in general health services research methods and concepts within a multi-disciplinary environment with special emphasis placed on the unique needs of the identified population groups, i.e., minority populations and children. As part of this initiative, AHRQ is interested in recruiting Historically Black Colleges and Universities and Hispanic Service Institutions to apply independently or in partnership with other institutions, to develop programs to train health care research investigators; and (4) training that focuses on conducting research using personally identifiable health care information without injury or disclosure to individuals. This training will directly address the growing concerns about the privacy of health care information.

Types of AHRQ Activities in Support of the Goals

Producing meaningful contributions to the Nation and to research on health care requires continuous activity focused on iterative improvements in priority setting, on developing research initiatives, and on research products and processes. The following research cycle describes the processes AHRQ uses to conduct its ongoing activities in order to make the most productive use of its resources.

1. Needs Assessment

AHRQ conducts needs assessments through a variety of mechanisms including expert meetings, conferences, and consultations with stakeholders and customers of its reach, publishing notices for comment in the Federal Register, as well as regular meeting with its National Advisory Council and government leaders. The results of these assessments are used to determine and prioritize information needs.

2. Knowledge Creation

AHRQ supports and conducts research to produce the next generation of knowledge needed to improve the health care system. Building on the last 12 years of investment in outcomes and health care research, AHRQ will focus on national priority areas for which much remains unknown.

3. Translation and Dissemination

Simply producing knowledge is not sufficient; findings must be useful and made widely available to practitioners, patients, and other decision makers. In order to accelerate the pace of quality improvement, the focus must be on closing the gap between what we know and what we do. The Agency will systematically identify priority areas for improving care through integrating findings into practice and will determine the most effective ways of doing this. Additionally, AHRQ will continue to synthesize and translate knowledge into products and tools based on research findings that support its customers in problem-solving and decision making. It will then actively disseminate the knowledge, products, and tools to appropriate audiences. Effective dissemination involves forming partnerships with other organizations and leveraging resources.

4. Evaluation

Knowledge development is a continuous process. It includes a feedback loop that depends on evaluation of the research's utility to the end user and impact on health care. In order to assess the ultimate outcomes of AHRQ research, the Agency is placing increased emphasis on the evaluation of the impact and usefulness of Agency-supported work in health care settings and policymaking. The evaluation activities will include a variety of projects, from smaller, short-term projects that assess process, outputs, and interim outcomes to larger, retrospective projects that assess the ultimate outcomes/impact of AHRQ activities on the health care system.

AHRQ Customers

The AHRQ research agenda is designed to be responsive to the needs of its customers/stakeholders and what they value in health care. These include consumers and patients; clinicians and other providers; institutions; plans; purchasers; and policymakers in all sectors (e.g., Federal, State, and local governments; voluntary associations; international organizations; and foundations). All of these customers require evidence-based information to inform health policy decisions. Health policy choices in this context represent three general levels of decision making: (1) Clinical Policy Decisions—Information is used every day by clinicians, consumers, patients, and health care institutions to make choices about what works, for whom, when, and at what cost; (2) Health Care System Policy Decision—Health plan and system administrators and policymakers are confronted daily by choices on how to improve the health care system's ability to provide access to and deliver high-quality, high-value care; (3) Public Policy Decisions—Information is used by policymakers to expand their capability to monitor and evaluate the impact of system changes on outcomes, quality, access, cost, and use of health care and to devise policies designed to improve the performance of the system. These decisions include those made by Federal, State, and local policymakers and those that affect the entire population or certain segments of the public.

In summary, AHRQ seeks suggestions for agency activities within the framework of priorities set out in the AHRQ strategic plan, goals, activities, and customers, as described above.

Dated: June 10, 2002.
Carolyn M. Clancy,
Acting Director.

[FR Doc. 02-17063 Filed 7-8-02; 8:45 am]

BILLING CODE 4160-90-M